DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 83 FR 48424-48428, dated September 25, 2018) is amended to reflect the reorganization of the National Center for Health Statistics, Office of Public Health Scientific Services, Centers for Disease Control and Prevention. This reorganization will streamline the current organizational structure, improve the overall employee/supervisor ratio, eliminate workflow inefficiencies, and improve customer service.

I. Under Part C, Section C-B, Organization and Functions, make the following organizational change:

• Retitle the Office of Analysis and Epidemiology (CPCB) to the Division of Analysis and Epidemiology (CPCB).

II. Under Part C, Section C-B, Organization and Functions, make the following change:

• Division of Analysis and Epidemiology (CPCB). (1) Participates in the development of policy, long-range plans, and programs of the Center, with emphasis on advancing the use of Center data systems; (2) plans, directs, and coordinates the Analysis and Epidemiology Program of the Center; (3) conducts developmental and evaluation research and analysis in the areas of epidemiology, health status, health services utilization, health promotion, and health economics, including methodological issues related to conceptualization and measurement; (4) provides leadership and expertise in the application of statistical techniques to integrate, analyze and report data from multiple and diverse sources; (5) provides consultation and technical assistance to the Center, CDC, the Department and other public and private health agencies at the national and international level on activities on the analysis and interpretation of health statistics; (6) augments the methodological and policy analysis activities of the Center; and (7) focuses on complex methods, analyses, and tools that integrate health data from diverse sources, including research on measurement, linkage, and surveillance of population health and health promotion.

• Health Promotion Statistics Branch (CPCBB). (1) Develops policies, plans, and strategies for the implementation of surveillance and data systems in support of the Department's health promotion and disease prevention objectives; (2) coordinates the health promotion and disease prevention related data collection activities of the Center; (3) serves as liaison with the Department's Office of Disease Prevention and Health Promotion; (4) provides support and technical assistance to state and local health agencies in the areas of statistical assessment and the use of data for policy development and program planning; (5) coordinates Center activities that assess the progress on the elimination of health disparities; (6) establishes consensus-building processes involving CDC, the Department, state and local agencies, and the private sector to identify priority data gaps on national health promotion objectives and recommends solutions to fill these gaps; and (7) designs, develops, and implements computer data processing systems and software and produces statistical data for analysis.

• Measures Research and Evaluation Branch (CPCBD). (1) Develops and conducts a research program designed to examine significant public health problems, as well as the sources of data available and needed to inform their use in the evaluation of population health initiatives both in the U.S. and internationally; (2) uses statistical data from multiple sources, with an emphasis on Center data and the measures used to collect data for major areas of programmatic interest; (3) conducts multi-disciplinary research focusing on population health and functioning to examine areas of interest including methodological issues related to conceptualization and measurement; (4) collaborates with, and provides leadership, consultation and technical assistance to, others within the Center, the Federal government and internationally; and (5) prepares research and analytic reports for publication and dissemination.

• Data Linkage Methodology and Analysis Branch (CPCBE). (1) Plans, directs, and manages the Center's multi-faceted methodological research program on major public health issues including data linkage and geocoding activities; (2) develops and executes center-wide data linkage and geocoding activities to collect additional information to maximize the scientific value of the Center's population-based cross-sectional and longitudinal health surveys while maintaining respondent confidentiality; (3) develops, plans, and implements studies evaluating the methodology used for the Center's data linkage projects; (4) provides leadership and expert consultation to the Center's data divisions on best practices and methodologies used for data linkage; (5) provides consultation and technical assistance to the research community utilizing the NCHS survey linked data files; and (6) prepares methodological and research reports for publication and dissemination to support the Center's data linkage projects.

• Population Health Reporting and Dissemination Branch (CPCBG). (1) Serves as a focal point for a Center-wide analytical program aimed at the assessment and development of health data from multiple sources designed to facilitate the analysis of population health and emerging public health issues; (2) conducts and coordinates in-depth statistical analyses of special population groups relating to their health characteristics and their health care needs; (3) directs preparation of the Secretary's annual report, Health, United States, on the health status of the Nation to the President and the Congress in compliance with Section 308 of the PHS Act and other recurring and special reports requested by the Department; (4) provides leadership and expertise in the application of sophisticated statistical techniques related to the problem of integrating, analyzing, and reporting data from diverse sources; and (5) conducts research on selected aspects of health status and health services for publication and dissemination.

IV. Delegations of Authority: All delegations and redelegations of authority made to officials and employees of affected organizational components will continue in them or their successors pending further redelegation, provided they are consistent with this reorganization.

(Authority: 44 U.S.C. 3101).

Alex M. Azar II,
Secretary.

[FR Doc. 2019-05365 Filed 3-20-19; 8:45 am]

BILLING CODE 4163-18-P